DEPARTMENT OF EDUCATION

[CFDA Nos.: 84.038, 84.033, and 84.007]

Student Financial Assistance; Federal Perkins Loan, Federal Work-Study (FWS), and Federal Supplemental Educational Opportunity Grant (FSEOG) Programs

ACTION: Notice of deadline dates for request and supporting documents for funding or waivers for the remainder of the 2001-2002 award year.

SUMMARY: The Secretary announces deadline dates for an institution of higher education to submit various requests and documents under the Campus-Based programs for the remainder of the 2001-2002 award year (January 1, 2002 through June 30, 2002). The Department believes it is more customer friendly and helpful for an institution to have one annual notice, rather than several, for an award year.

FOR FURTHER INFORMATION CONTACT: Mr. Richard Coppage, Campus-Based Operations, Student Financial Assistance, U.S. Department of Education, 830 First Street, NE., Washington, DC 20202-5453. Telephone: (202) 377-3174.

If you use a telecommunications device for the deaf (TDD), you may call the Federal Information Relay Service (FIRS) at 1-800-877-8339.

Individuals with disabilities may obtain this document in an alternative format, (e.g., Braille, large print, audiotape, or computer diskette) on request to the contact person listed under FOR FURTHER INFORMATION CONTACT.

SUPPLEMENTARY INFORMATION: There are three programs that we refer to as the Campus-Based programs: The Perkins Loan Program encourages institutions to make low-interest, long term loans to needy undergraduate and graduate students to help pay for their cost of education.

The FSEOG Program encourages institutions to provide grants to exceptionally needy undergraduate students to help pay for their cost of education.

The FWS Program encourages the part-time employment of needy undergraduate and graduate students to help pay for their cost of education and encourages these students to participate in community service activities. An institution may use part of its FWS funds to locate and develop jobs for students under the Job Location and Development Program. An eligible institution that meets the definition of a “Work-College” may participate in the Work-Colleges Program.

The Federal Perkins Loan, FWS, and FSEOG Programs are authorized by parts E and C, and part A, subpart 3, respectively, of title IV of the Higher Education Act of 1965, as amended.

The Department will still refer to these individual deadline dates in its “Dear Partner” Letters that relate to each process we post on the Information for Financial Aid Professionals (IFAP) Web site.

DEADLINE DATES: The following table provides the deadline dates for the Campus-Based programs for the remainder of the current award year. In July 2002 we shall publish a notice for the 2002-2003 award year. Please note that an institution must meet the established deadline dates to ensure consideration for funding or a waiver, as appropriate.

Award Year 2002
What does an institution submit? | Where does the institution submit this? | What is the deadline for submission?
1. Institutional Application and Agreement for Participation in the Work-Colleges Program for the 2002-2003 award year | Work-Colleges Program Campus-Based Operations, U.S. Department of Education, 830 First Street, NE., Washington, DC 20202-5453 | April 26, 2002
2. Request for a Waiver of the Minimum Expenditure Requirement for Community Service in the FWS Program for the 2002-2003 award year | FWS Community Service Waiver Request Campus-Based Operations, U.S. Department of Education, 830 First Street, NE., Washington, DC 20202-5453 | June 28, 2002

Proof of Delivery of Request and Supporting Documents

If you submit your documents by mail or by a non-U.S. Postal Service courier, we accept as proof one of the following:

(1) A legible mail receipt with the date of mailing stamped by the U.S. Postal Service.

(2) A legibly dated U.S. Postal Service postmark.

(3) A legibly dated shipping label, invoice, or receipt from a commercial courier.

(4) Other proof of mailing or delivery acceptable to the Secretary.

If the request and documents are sent through the U.S. Postal Service, the Secretary does not accept either of the following as proof of mailing: (1) A private metered postmark or (2) a mail receipt that is not dated by the U.S. Postal Service. An institution should note that the U.S. Postal Service does not uniformly provide a dated postmark. Before relying on this method, an institution should check with its local post office. An institution is encouraged to use certified or at least first-class mail.

The Department accepts commercial couriers or hand deliveries between 8 a.m. and 4:30 p.m., Eastern time, Monday through Friday except Federal holidays.

Sources for Detailed Information on these Requests

A more detailed discussion of each request for funds or waiver is provided in a specific “Dear Colleague” letter, which is posted on the Department's Web page at least 30 days before the established deadline date for the specific request. Information on these items is also found in the Federal Student Financial Aid Handbook.

Applicable Regulations: The following regulations apply to these programs:

(1) Student Assistance General Provisions, 34 CFR part 668.

(2) General Provisions for the Federal Perkins Loan Program, Federal Work-Study Program, and Federal Supplemental Educational Opportunity Grant Program, 34 CFR part 673.

(3) Federal Perkins Loan Program, 34 CFR part 674.

(4) Federal Work-Study Program, 34 CFR part 675.

(5) Federal Supplemental Educational Opportunity Grant Program, 34 CFR part 676.

(6) Institutional Eligibility under the Higher Education Act of 1965, as amended, 34 CFR part 600.

(7) New Restrictions on Lobbying, 34 CFR part 82.

(8) Governmentwide Debarment and Suspension Nonprocurement and Government Requirement for Drug-Free Workplace (Grants), 34 part 85.

(9) Drug-Free Schools and Campuses, 34 CFR part 86.

Electronic Access to This Document

You may view this document, as well as other Department of Education documents published in the Federal Register, in text or Adobe Portable Document Format (PDF) on the Internet at the following site: www.ed.gov/legislation/FedRegister

To use the PDF you must have the Adobe Acrobat Reader, which is available free at this site. If you have questions about using PDF, call the U.S. Government Printing Office (GPO) toll free, at 1-888-293-6498; or in the Washington, DC, area at (202) 512-1530.

Note: The official version of this document is the document published in the Federal Register and the Code of Federal Regulations is available on GPO Access at: http://www.access.gov/nara/index.html

Program Authority: 20 U.S.C. 1087aa et seq.; 42 U.S.C. 2751 et seq.; and 20 U.S.C. 1070b et seq.

Dated: March 13, 2002.
Greg Woods,
Chief Operating Officer, Office of Student Financial Assistance.

[FR Doc. 02-6548 Filed 3-18-02; 8:45 am]

BILLING CODE 4000-01-P